DEPARTMENT OF ENERGY

Federal Energy Regulatory Commission

Sunshine Act Meeting Notice

The following notice of meeting is published pursuant to section 3(a) of the Government in the Sunshine Act (Pub. L. 94-409), 5 U.S.C. 552b:

AGENCY HOLDING MEETING: Federal Energy Regulatory Commission.

DATE AND TIME: May 14, 2015, 10:00 a.m.

PLACE: Room 2C, 888 First Street NE., Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed online at the Commission's Web site at http://www.ferc.gov using the eLibrary link, or may be examined in the Commission's Public Reference Room.

1016th—Meeting
Item No. | Docket No. | Company
Administrative
A-1 | AD02-1-000 | Agency Business Matters.
A-2 | AD02-7-000 | Customer Matters, Reliability, Security and Market Operations.
A-3 | AD06-3-000 | Market Update.
Electric
E-1 | RM15-11-000 | Reliability Standard for Transmission System Planned Performance for Geomagnetic Disturbance Events.
E-2 | ER13-1957-000 | ISO New England Inc. New York Independent System Operator, Inc. PJM Interconnection, L.L.C.
| ER13-1942-000, ER13-1946-000 | New York Independent System Operator, Inc.
| ER13-1960-000 | ISO New England Inc. New England Power Pool Participants Committee.
| ER13-1947-000 | PJM Interconnection, L.L.C.
| ER13-1926-000 (not consolidated) | PJM Interconnection, L.L.C. Duquesne Light Company.
E-3 | ER13-75-006, ER13-75-007, ER13-75-008, ER15-416-000 | Public Service Company of Colorado.
| ER13-77-004, ER13-77-005, ER13-77-006, ER15-433-000 | Tucson Electric Power Company.
| ER13-78-004, ER13-78-005, ER13-78-006, ER15-434-000 | UNS Electric, Inc.
| ER13-79-004, ER13-79-005, ER13-79-006, ER15-413-000 | Public Service Company of New Mexico.
| ER13-82-004, ER13-82-005, ER13-82-006, ER15-411-000 | Arizona Public Service Company.
| ER13-91-004, ER13-91-005, ER15-426-000 | El Paso Electric Company
| ER13-96-004, ER13-96-005, ER15-431-000 | Black Hills Power, Inc.
| ER13-97-004, ER13-97-005, ER15-430-000 | Black Hills Colorado Electric Utility Company, LP.
| ER13-105-004, ER15-423-000, ER15-424-000, ER15-428-000, ER15-428-001 | NV Energy, Inc.
| ER13-120-004, ER13-120-005, ER15-432-000 | Cheyenne Light, Fuel, & Power Company.
E-4 | ER13-94-004, ER15-422-000 | Avista Corporation.
| ER13-99-003, ER15-429-000 | Puget Sound Energy, Inc.
| ER13-836-003 | MATL LLP.
E-5 | EL13-33-001, EL13-33-003 | ENE (Environment Northeast); The Greater Boston Real Estate Board; and National Consumer Law Center v. Bangor Hydro-Electric Company; Central Maine Power Company; New England Power Company; New Hampshire Transmission LLC; NSTAR Electric Company; Northeast Utilities Service Company; The United Illuminating Company; Unitil Energy Systems, Inc.; Fitchburg Gas and Electric Light Company; and Vermont Transco, LLC.
| EL14-86-001 | Attorney General of the Commonwealth of Massachusetts; Connecticut Public Utilities Regulatory Authority; Massachusetts Municipal Wholesale Electric Company; New Hampshire Electric Cooperative, Inc.; Massachusetts Department of Public Utilities; New Hampshire Public Utilities Commission; George Jepsen, Attorney General of the State of Connecticut; Connecticut Office of Consumer Counsel; Maine Office of the Public Advocate; New Hampshire Office of the Consumer Advocate; Rhode Island Division of Public Utilities Carriers; Vermont Department of Public Service; Associated Industries of Massachusetts; The Energy Consortium; Power Options, Inc.; Western Massachusetts Industrial Group; Environment Northeast; National Consumer Law Center; Greater Boston Real Estate Board; and Industrial Energy Consumer Group v. Bangor Hydro-Electric Company; Central Maine Power Company; New England Power Company; New Hampshire Transmission LLC; The Connecticut Light and Power Company; Western Massachusetts Electric Company; Public Service Company of New Hampshire; NSTAR Electric Company; The United Illuminating Company; Unitil Energy Systems, Inc.; Fitchburg Gas and Electric Light Company; and Vermont Transco, LLC.
E-6 | EL13-78-001, EL12-59-001 | Golden Spread Electric Cooperative, Inc. v. Southwestern Public Service Company.
E-7 | ER15-1196-000, ER15-1196-001 | Nevada Power Company.
E-8 | QM15-2-000 | Northern States Power Company, a Minnesota corporation.
E-9 | EC15-76-000 | PowerMinn 9090, LLC. Fibrominn, LLC. Benson Power, LLC. CPV Biomass Holdings, LLC.
E-10 | ES15-14-000 | NorthWestern Corporation.
E-11 | OMITTED
E-12 | ER07-956-008 | Entergy Services, Inc.
E-13 | ER10-3357-000, ER10-3357-001 | Entergy Services, Inc.
E-14 | EL15-19-000 | Avista Corporation.
E-15 | ER15-990-000 | Southwest Power Pool, Inc.
Gas
G-1 | RP13-436-001 | CAlifornians for Renewable Energy, Inc. Michael E. Boyd. Robert M. Sarvey v. Pacific Gas and Electric Company.
Hydro
H-1 | OMITTED
H-2 | P-2169-109 | Brookfield Smoky Mountain Hydropower, LLC.
H-3 | RM15-18-000 | Commencement of Assessment of Annual Charges.
H-4 | P-1892-027, P-1855-046, P-1904-074 | TransCanada Hydro Northeast Inc.
Certificates
C-1 | CP14-513-000 | Impulsora Pipeline, LLC.
C-2 | CP14-509-000 | Paiute Pipeline Company.
C-3 | CP14-522-000 | Algonquin Gas Transmission, LLC.
C-4 | OMITTED
C-5 | CP15-161-000 | Roadrunner Gas Transmission, LLC.
C-6 | CP15-32-000 | Black Hills Shoshone Pipeline, LLC.
| CP15-33-000 | Energy West Development, Inc.

Issued: May 7, 2015.
Nathaniel J. Davis, Sr.,
Deputy Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2015-11509 Filed 5-8-15; 11:15 am]

BILLING CODE 6717-01-P